DEPARTMENT OF ENERGY

Finding of No Significant Impact: Disposition of DOE Excess Depleted Uranium, Natural Uranium, and Low-Enriched Uranium

AGENCY: Department of Energy.

ACTION: Finding of No Significant Impact.

SUMMARY: The U.S. Department of Energy (DOE, the Department) has completed an Environmental Assessment (EA) for the Disposition of DOE Excess Depleted Uranium (DU), Natural Uranium (NU), and Low-Enriched Uranium (LEU) (DOE/EA-1607). Based on the analysis in the EA, the Department has determined that the proposed action, DOE dispositioning its excess uranium inventory using one or a combination of two methods—(1) enrichment to either NU or LEU product and subsequent storage or sale of the resultant NU or LEU product (Enrichment Alternative), and (2) direct sale to appropriately licensed entities (Direct Sale Alternative)—does not constitute a major Federal action significantly affecting the quality of the human environment within the context of the National Environmental Policy Act of 1969 (NEPA). Therefore, the preparation of an Environmental Impact Statement (EIS) is not required and the Department is issuing this Finding of No Significant Impact (FONSI).

ADDRESSES: Single copies of the EA and FONSI may be obtained from:

Mr. Ronald Hagen, NEPA Document Manager, NE-6, Forrestal Building, U.S. Department of Energy, 1000 Independence Ave., SW., Washington, DC 20585-0113, Phone: (202) 586-1381, Facsimile: (202) 287-3701, Electronic mail: Ronald.Hagen@nuclear.energy.gov.

FOR FURTHER INFORMATION CONTACT:

Mr. Ronald Hagen, Phone: (202) 586-1381, Electronic mail: Ronald.Hagen@nuclear.energy.gov.

For information on DOE's NEPA process:

Ms. Carol Borgstrom, Director, NEPA Policy and Compliance, GC-20, Forrestal Building, U.S. Department of Energy, 1000 Independence Avenue, SW., Washington, DC 20585-0113, Phone: (202) 586-4600, Facsimile: (202) 586-7031.

SUPPLEMENTARY INFORMATION: Background: DOE owns and manages an inventory of excess DU, NU, and LEU. This inventory is currently stored in large cylinders as depleted uranium hexafluoride (DUF6), natural uranium hexafluoride (NUF6), and low-enriched uranium hexafluoride (LEUF6) at the DOE Paducah site in western Kentucky (DOE Paducah) and the DOE Portsmouth site near Piketon in south-central Ohio (DOE Portsmouth). This inventory exceeds DOE's current and projected energy and defense program needs. The Secretary of Energy policy statement on the management of DOE excess uranium inventory issued on March 11, 2008, commits DOE to managing all of its excess uranium inventory in a manner that (1) is consistent with all applicable legal requirements; (2) maintains sufficient uranium inventory at all times to meet the current and reasonably foreseeable needs of Departmental missions; (3) undertakes transactions involving non-U.S. Government entities in a transparent and competitive manner, unless the Secretary determines in writing that overriding Departmental mission needs dictate otherwise; and (4) is consistent with and supportive of the maintenance of a strong domestic nuclear industry.

In conformance with the requirements of the Council on Environmental Quality Regulations for Implementing the Procedural Provisions of NEPA (40 CFR Parts 1500-1508) and the DOE NEPA Implementing Procedures (10 CFR Part 1021), the Department prepared a draft EA which was issued for public review on December 24, 2008. Comments were received from potentially affected states, the Nuclear Regulatory Commission, and uranium industry organizations. The draft EA was revised in response to the comments, as appropriate.

Alternatives and Environmental Impacts: The potential environmental impacts associated with the proposed disposition of excess uranium inventory were analyzed for the following alternatives:

No Action Alternative: DOE would continue with existing plans to convert DU to a more stable chemical form at the two new conversion facilities and would not enrich or sell any of its excess DU inventory as proposed in this EA. DOE would also continue to store excess NU and LEU in their current configurations at Portsmouth and Paducah.

Alternative 1—Enrichment: DOE would contract for enrichment of excess DU, NU, and LEU and subsequent storage or sale of the resultant NU or LEU product. DOE would ship by commercial carriers (truck, rail, barge, and/or ship) excess DU, NU, and LEU to one or more of four enrichment facilities (three domestic and one foreign). LEU product could be stored at up to three U.S. commercial nuclear fuel fabrication facilities in North Carolina, South Carolina, and/or Washington State, and/or at DOE's Portsmouth or Paducah sites. NU product could be stored at enrichment facilities in Kentucky, New Mexico, and/or Ohio, and/or at DOE's Portsmouth or Paducah sites. DOE would contract with the enrichment facility to store and/or dispose of the DU tails or, in the case of domestic enrichment facilities, to ship the DU tails to DOE Paducah and/or DOE Portsmouth for storage.

Alternative 2—Direct Sale: DOE would introduce excess DU, NU, and LEU into the commercial market through direct sales to appropriately licensed entities. The licensed purchasers would take delivery, transport and enrich the excess inventory, and transport and store the NU or LEU product in essentially the same manner and using essentially the same facilities as would DOE under the Enrichment Alternative.

The potential environmental impacts of all aspects of enrichment operations and the conversion of DU tails have been previously analyzed in existing NEPA documents and have been summarized and incorporated by reference in the EA. In addition, the EA analyzed (1) previously unanalyzed impacts on health and safety from transportation of the excess inventory, LEU product, NU, and DU tails, (2) impacts associated with accidents and intentional destructive acts (terrorism, sabotage), and (3) economic impacts of the proposed action on the domestic uranium industry. In general, the impacts identified for the Enrichment and Direct Sale Alternatives are similar if not identical. The attached Summary of the EA provides a summarization of the alternatives and the impacts.

Mitigation: The Mitigation Action Plan (MAP), which follows this determination and is an integral part of this FONSI, specifies the analyses the Department would undertake prior to sales and transfers of excess NU, DU, and LEU and commits the Department to implement appropriate mitigation measures to avoid or minimize any potentially significant impacts on the domestic uranium industry.

Conclusion: The potential environmental impacts of the proposed action have been analyzed in the EA. The analysis shows that no significant impacts are likely to occur as a result of the Department undertaking the proposed action. Further, no adverse impacts on the uranium industry are expected as the Department has committed to conduct analysis prior to each transaction and to take appropriate action to mitigate any adverse impacts on the uranium industry.

Determination: Based on the analysis in the subject EA and the commitments in the Mitigation Action Plan outlined below, the Department has determined that the proposed disposition of the excess uranium inventory of DU, NU, and LEU using one or a combination of two methods—(1) enriching it and then storing or selling the resultant product, and/or (2) selling excess DU, NU, and LEU inventory to appropriately licensed entities—would not have significant environmental impacts, including impacts on the domestic uranium mining, conversion or enrichment industry (domestic uranium industry) and is not a major Federal action that would significantly affect the quality of the human environment within the context of NEPA. Therefore, the preparation of an EIS is not required.

Mitigation Action Plan for the Disposition of DOE Excess Depleted Uranium, Natural Uranium, and Low-Enriched Uranium

Purpose: This Mitigation Action Plan will be implemented by DOE to mitigate any potentially significant impacts on the domestic uranium industry from DOE's decision to disposition the excess NU, DU, and LEU inventory at DOE's Paducah and Portsmouth sites by enriching it, and then storing or selling the resultant product, and/or selling excess NU, DU, and LEU inventory to appropriately licensed entities, as analyzed in the Environmental Assessment for the Disposition of DOE Excess Depleted Uranium, Natural Uranium, and Low-Enriched Uranium.

Mitigation Action Plan: The DOE NEPA requirements governing mitigation action plans are set forth at 10 CFR 1021.331. This regulation specifies at 10 CFR 1021.331(b) that, in cases where an EA supports a Finding of No Significant Impact (FONSI), DOE shall also prepare a MAP for commitments to mitigation that are essential to render the impacts of the proposed action not significant. In such cases, the MAP must address all commitments to such necessary mitigations and explain how mitigation will be planned and implemented. The MAP must be prepared before the FONSI is issued, and referenced in the FONSI. In addition, the MAP must be as complete as possible, commensurate with the information available regarding the action to be covered by the FONSI, and may be revised as more specific and detailed information becomes available. 10 CFR 1021.331(c).

This MAP addresses the DOE commitments that are necessary and how they will be planned or implemented to mitigate any potentially significant impacts on the domestic uranium industry from DOE's Proposed Action. In the EA, DOE identified two mitigation measures that underlie its analysis and would be utilized to mitigate any potentially significant impacts on the domestic uranium industry from its Proposed Action: (1) Prior to particular sales or transfers of NU and LEU, as applicable, a Secretarial Determination pursuant to section 3112(d) of the USEC Privatization Act (Pub. L. 104-134) would be prepared to determine that there is no adverse material impact from the sale or transfer on the domestic uranium industry; and (2) prior to particular sales or transfers of DU, DOE would conduct an analysis to ensure there would be no potentially significant impacts from the sale or transfer on the domestic uranium industry (EA, Section 4.3.2).

The first mitigation measure is required under the USEC Privatization Act for certain sales or transfers of NU and LEU and DOE would plan and implement that measure consistent with existing law ¹ and policy. That is, DOE would conduct a market impact analysis to determine the potential impacts of the proposed sale or transfer on the domestic uranium industry taking into account the sales of uranium under the Russian HEU Agreement and the Suspension Agreement, and other uranium sales or transfers by the DOE (including the National Nuclear Security Administration). Among other things, the market impact analysis would consider, as appropriate, current and projected uranium prices, enrichment capacity, uranium mining activities, and commercial contracting practices. Should the market impact analysis indicate adverse material impacts on the domestic uranium industry, the proposed sale or transfer would be adjusted as necessary to ensure that such adverse impacts are avoided or mitigated. The sale or transfer may be approved and implemented only if the Secretary determines that the sale or transfer would not have adverse material impacts on the domestic uranium industry.

¹ Although DOE compliance with the requirements of section 3112(d) of the USEC Privatization Act is included in this MAP as a mitigation measure, it should be noted that it is an integral element of the Proposed Action and, as such, need not be included or described in this MAP. However, it has been included herein to provide a comprehensive explanation of the actions that would be undertaken by DOE to mitigate any potentially significant impacts on the domestic uranium industry from the Proposed Action.

The second mitigation measure applies to DU and is not required under the USEC Privatization Act; however, as indicated in the EA, DOE would conduct an analysis prior to particular sales or transfers of DU to ensure there would be no potentially significant impacts to the domestic uranium industry. Conducting such an analysis would be consistent with DOE policies for uranium management as outlined in the Secretarial Policy Statement, and is a commitment DOE will undertake and include in this MAP in order to mitigate any potentially significant impacts on the domestic uranium industry from DOE's proposed sale or transfer of DU. The market impact analysis would be prepared prior to a particular sale or transfer, and would be similar in form and content to the market impact analysis that underlies a Secretarial Determination pursuant to the USEC Privatization Act. That is, DOE would conduct a market impact analysis to determine the potential impacts of the proposed sale or transfer on the domestic uranium industry, taking into account the sales of uranium under the Russian HEU Agreement and the Suspension Agreement, and other uranium sales or transfers by the DOE (including the National Nuclear Security Administration). Among other things, the market impact analysis would consider, as appropriate, current and projected uranium prices, enrichment capacity, uranium mining activities, and commercial contracting practices. Should the market impact analysis indicate potentially significant impacts on the domestic uranium industry, the proposed sale or transfer would be adjusted as necessary to ensure that such potentially significant impacts are avoided or mitigated. The sale or transfer of DU may be approved and implemented only if the market impact analysis indicates that the sale or transfer would not result in potentially significant impacts on the domestic uranium industry.

With these commitments in place, the Proposed Action would be implemented by DOE in a manner that would avoid or mitigate any potentially significant impacts on the domestic uranium industry. This MAP may be revised in the future as more specific and detailed information becomes available.

Issued in Washington, DC, on June 24, 2009.
R. Shane Johnson,
Acting Assistant Secretary, Office of Nuclear Energy.

Final Environmental Assessment Disposition of DOE Excess Depleted Uranium, Natural Uranium, and Low-Enriched Uranium (DOE/EA-1607)

Summary

The U.S. Department of Energy (DOE) owns and manages an inventory of depleted uranium (DU), natural uranium (NU), and low-enriched uranium (LEU) that is currently stored in large cylinders as depleted uranium hexafluoride (DUF6), natural uranium hexafluoride (NUF6), and low-enriched uranium hexafluoride (LEUF6) at the DOE Paducah site in western Kentucky (DOE Paducah) and the DOE Portsmouth site near Piketon in south-central Ohio (DOE Portsmouth)². This inventory exceeds DOE's current and projected energy and defense program needs.

² DOE also has additional uranium of varying levels of enrichment that, in the future, may be added to the excess DU, NU, and LEU inventory (e.g., uranium that could be recovered during facility decontamination and decommissioning [D&D]). In addition, the DOE uranium inventory includes quantities of highly enriched uranium (HEU), which is being dispositioned through an ongoing National Nuclear Security Administration (NNSA) program and is not addressed in this EA.

On March 11, 2008, the Secretary of Energy issued a policy statement (the Secretarial Policy Statement) on the management of DOE's excess uranium inventory (Appendix A). The policy statement commits DOE to manage all of its excess uranium inventories in a manner that (1) is consistent with all applicable legal requirements; (2) maintains sufficient uranium inventories at all times to meet the current and reasonably foreseeable needs of Departmental missions; (3) undertakes transactions involving non-U.S. Government entities in a transparent and competitive manner, unless the Secretary of Energy determines in writing that overriding Departmental mission needs dictate otherwise; and (4) is consistent with and supportive of the maintenance of a strong domestic nuclear industry.

In accordance with this policy, DOE proposes to disposition part of its excess uranium inventory using one or a combination of two methods: (1) Enrichment to either NU or LEU product, and subsequent storage or sale of the resultant NU or LEU product (the Enrichment Alternative), and (2) direct sale ³ to appropriately licensed entities (the Direct Sale Alternative). Under the Enrichment Alternative, DOE could enrich DU to the ²³⁵U content of NU (i.e., 0.711 percent ²³⁵U), and DOE could enrich DU, NU, and/or LEU (with a current ²³⁵U content of less than 4.95 percent) up to 4.95 percent ²³⁵U content. This environmental assessment (EA) assumes that the Proposed Action would result in the annual enrichment and/or sale of amounts of the excess inventory that, combined with other DOE sales or transfers to the market, generally would not exceed 10 percent of the total annual fuel requirements of all licensed U.S. nuclear power plants—that is, approximately 2,000 metric tons of uranium (MTU). In some years, the annual amount enriched and/or sold could be greater than 2,000 MTU (for example, due to startup of new reactors, which requires approximately two times the amount of natural uranium needed for subsequent routine re-loads).

³ In this EA, the term “sale” includes direct sales, transfers, or other transactions the Department may undertake to disposition its excess uranium inventory.

As mentioned previously, the excess inventory that DOE currently proposes to disposition is stored as UF6 at the DOE Portsmouth site in Ohio and the DOE Paducah site in Kentucky. DOE also anticipates the potential identification of additional amounts of LEU with a ²³⁵U content of less than 4.95 percent. Under the Enrichment Alternative, the uranium could be transported by truck or rail to one or more of three enrichment facilities in the United States or to a foreign enrichment facility. A facility in France is identified as a representative foreign facility for the purposes of assessing potential impacts. Shipments to France could be via any of several east-coast or gulf-coast U.S. ports; however, this EA assumes, for purposes of analysis, that the uranium would be transported by barge to New Orleans, Louisiana, then by ship to France. The LEU product could be stored at up to three U.S. commercial nuclear fuel fabrication facilities (FFFs) in North Carolina, South Carolina, and Washington State, and/or at DOE's Portsmouth or Paducah sites. When DU is enriched to NU, it would be stored at enrichment facilities in Kentucky, New Mexico, and/or Ohio, and/or at DOE's Portsmouth or Paducah sites. The DU that would result from the enrichment process, called “DU tails”, would be stored and managed at the enrichment facility or be transported to and stored and managed at DOE's Portsmouth or Paducah sites.

In this EA, DOE assesses the potential environmental impacts associated with this Proposed Action and a No Action Alternative. The potential impacts of all aspects of enrichment operations and the conversion of DU tails, per se, have been previously addressed in existing National Environmental Policy Act (NEPA) documents. This EA focuses on previously unanalyzed impacts: (1) Health and safety impacts from transportation of the excess inventory, LEU product, NU, and DU tails; (2) impacts associated with accidents and intentional destructive acts (terrorism, sabotage); and (3) economic impacts of the Proposed Action on the domestic uranium industry.

In general, the impacts identified for the Enrichment and Direct Sale Alternatives are similar if not identical. The potential impacts are summarized as follows:

• For all truck, rail, and barge transport options, for all domestic and foreign enrichment facility locations, and for all storage options, transportation of the entire inventory of DU, NU, and LEU subject to this EA is estimated to result in up to 3 transportation-related fatalities ⁴ over approximately 25 years ⁵. For overseas transportation, this includes impacts from sea transit, U.S. port operations, and overland transport. These transportation impacts include the radiological and nonradiological impacts from incident-free transportation and transportation accidents. The range in impacts presented in this EA is primarily due to differences in the amounts of materials that would be shipped for each case analyzed and differences in the distances over which the materials would be shipped.

⁴ For perspective, over the period 2002 to 2006, about 43,000 people were killed each year in motor vehicle accidents and about 900 people were killed each year in railroad accidents and incidents in the United States (DOT 2007).

⁵ Because the actual annual amounts of excess inventory enriched would likely be less than the maximum annual amount, and because it would probably change from year to year, DOE is not limiting the Proposed Action to a particular number of years. However, for purposes of modeling the impacts of processing the entire inventory, 25 years is used.

• For enrichment at the National Enrichment Facility (NEF) near Eunice, New Mexico, the truck or rail transportation impacts would be higher than for enrichment at Paducah, Kentucky, or Portsmouth, Ohio, because the NU, LEU, or DU feed would be shipped greater distances; the DU tails and NU product, could be stored/dispositioned by NEF, or could be shipped back to Paducah or Portsmouth.

• The probability of a latent cancer fatality (LCF) for the maximally exposed individual (MEI) along the truck transportation routes was estimated to range from 8.3 × 10−⁸ to 5.3 × 10−⁷ over 25 years. For the analysis, the MEI was located 30 meters from the highway and was exposed to all truck shipments. The shipments are assumed to travel at a speed of 24 kilometers (15 miles) per hour, which is representative of speeds in urban areas.

• The probability of an LCF for the MEI along the rail transportation routes was almost identical to truck transport, ranging from 8.2 × 10−⁸ to 5.2 × 10−⁷ over 25 years. For the analysis, the MEI was located 30 meters from the railroad and was exposed to all rail shipments. The shipments are assumed to travel at a speed of 24 kilometers (15 miles) per hour, which is representative of speeds in urban areas.

• The transportation-related impacts of transporting the uranium to New Orleans by barge would be less than the impacts of transporting the uranium there by truck or rail due to the fewer number of required shipments and the fact that the exposed population would be smaller for barge transport.

• Severe rail accidents would have higher consequences than truck accidents because each railcar would carry four cylinders of DU, NU, or LEU (feed), compared with only one for each truck. For LEU product, each railcar would carry 12 cylinders, compared with 3 to 5 for each truck.

• DOE estimated that the radiological risks of transportation accidents for truck shipments (probability of occurrence × consequence summed over a complete spectrum of accidents, including the severe accidents discussed below) ranged from 0.042 to 0.96 LCFs over 25 years.

• DOE also estimated the consequences of severe truck accidents. For a severe truck accident involving one cylinder of depleted uranium hexafluoride (DUF6), the population radiation dose could be as high as 32,000 person-rem in an urban area if stable atmospheric conditions existed at the time of the accident. Based on this population radiation dose, it was estimated that there could be 20 LCFs in the assumed exposed population of about 3 million people. The radiation dose for the MEI was estimated to be as high as 0.91 rem and the probability of an LCF for this individual was estimated to be 0.0005. The probability of this accident ranged from 8.1 × 10−⁴ to 0.016 over 25 years.

If the severe transportation accident involved NU feed or product, the radiological consequences would be higher—about 28 LCFs in the assumed exposed population. For the MEI, the probability of an LCF would be 8 × 10−⁴. The probability of this accident ranged from 1.5 × 10−⁴ to 0.0055 over 25 years for those cases where NU is shipped. However, for several cases, NU would not be shipped and the probability of this accident would be zero.

If the severe transportation accident involved LEU product, the radiological consequences would range from about 75 to 125 LCFs in the assumed exposed population, assuming that all three or five 30B cylinders, respectively, in a truck shipment were breached during the severe accident. For the MEI, the probability of an LCF would be 0.002 or 0.0036 if three or five 30B cylinders, respectively, were breached during the severe accident. If three 30B cylinders were involved in the accident, the probability of the accident would range from 2.2 × 10−⁴ to 9 × 10−⁴ over 25 years for those cases where LEU is shipped. If five 30B cylinders were involved in the accident, the probability would range from 1.3 × 10−⁴ to 5.4 × 10−⁴ over 25 years for those cases were LEU is shipped. However, for several cases, LEU would not be shipped and the probability of this accident would be zero. In addition, the probability associated with this accident does not incorporate the effects of the protective overpack surrounding the 30B cylinders, which would reduce the probability of the accident to a range of 4.4 × 10−⁵ to 1.8 × 10−⁴ over 25 years if three 30B cylinders were involved or a range of 2.7 × 10−⁵ to 1.1 × 10−⁴ over 25 years if five 30B cylinders were involved

• DOE estimated that the radiological risks of transportation accidents for rail shipments (probability of occurrence × consequence summed over a complete spectrum of accidents, including the severe accidents discussed below) ranged from 0.051 to 0.97 LCFs over 25 years. The radiological risks for rail and truck transportation accidents are similar because the total number of cylinders shipped by rail and truck is the same.

• DOE also estimated the consequences of severe rail accidents. For a severe rail accident involving four cylinders of DUF6, the population radiation dose could be as high as 130,000 person-rem in an urban area if stable atmospheric conditions existed at the time of the accident. Based on this population radiation dose, it was estimated that there could be 80 LCFs in the assumed exposed population of about 3 million people. Under this scenario, the radiation dose for the MEI was estimated to be as high as 3.7 rem, and the probability of an LCF for this individual was estimated to be 0.002. The probability of this accident ranged from 2.4 × 10−⁴ to 0.003 over 25 years.

If the severe transportation accident involved NU feed or product, the radiological consequences would be higher—about 110 LCFs in the assumed exposed population and the probability of an LCF for the MEI would be 0.003. The probability of this accident ranged from 4.4 × 10−⁵ to 0.0011 over 25 years for those cases where NU is shipped. However, for several cases, NU would not be shipped and the probability of this accident would be zero.

If the severe transportation accident involved LEU product, the radiological consequences would be about 310 LCFs in the assumed exposed populations, assuming that all twelve 30B cylinders in a rail shipment were breached during the severe accident. For the MEI, the probability of an LCF would be 0.009. The probability of this accident ranged from 4.3 × 10−⁵ to 2.6 × 10−⁴ over 25 years for those cases where LEU is shipped. However, for several cases, LEU would not be shipped and the probability of this accident would be zero. In addition, the probability associated with this accident does not incorporate the effects of the protective overpack surrounding the 30B cylinders, which would reduce the probability of the accident to a range of 4.3 × 10−⁶ to 2.6 × 10−⁵ over 25 years.

• For both the truck and rail severe transportation accidents, the accidents were assumed to take place in an urban area with a population density of 1,600 people per square kilometer. Potential consequences were estimated for the population within a 50-mile (80-kilometer) radius, assuming that this population density extended out to 50 miles (80 kilometers). It is important to note that according to the 2000 census, the average population density within 50 miles of the center of the 20 highest population urbanized areas in the United States is about 380 people per square kilometer, so the consequences would likely be lower if a severe truck or rail accident took place in an urban area. In addition, the severe accidents were assumed to take place during stable atmospheric conditions. As illustrated in Table 4-13, if the accidents took place during neutral atmospheric conditions, the consequences would be substantially lower. For example, if the severe truck accident involving LEU product occurred during neutral atmospheric conditions, the consequences would range from 3 to 5 LCFs, substantially lower than 75 to 125 LCFs. If the severe rail accident involving LEU product occurred during neutral atmospheric conditions, the consequences would be about 12 LCFs, substantially lower than 310 LCFs.

• Three individuals could suffer irreversible health effects from severe truck accidents and four individuals could suffer irreversible health effects from severe rail accidents due to the chemical toxicity associated with UF6, hydrogen fluoride (HF), and uranyl fluoride (UO2F2). No fatalities are estimated to result from chemical exposure.

• Although it is not possible to predict the probability of an intentional destructive act, implementation of elements identified in the Department of Transportation-required security plan (personnel security, unauthorized access, and en route security) are judged to make these occurrences very unlikely. The consequences of such acts would be similar to the consequences discussed above for severe truck and rail accidents involving DU, NU, and LEU.

• If a severe accident involving stored LEU product were to occur, the accident would result in an estimated population dose. For example, at Global Nuclear Fuel-Americas (GNF-A), a severe accident was estimated to result in a population dose of 29,000 person-rem. In the assumed exposed population around the GNF-A facility, this radiation dose is estimated to result in 17 LCFs. The radiation dose for an individual located 2 kilometers from the facility was estimated to be 5 rem. The probability of an LCF for this person is estimated to be 0.003. If this accident occurred at other sites, the results would vary depending on the amount of material involved in the accident; the enrichment of the UF6; the release fractions, aerosolized fractions, and respirable fractions; release assumptions such as whether the release was elevated or from ground level; the number of people exposed; atmospheric conditions; and radiation dosimetry assumptions.

• The potential market impacts (including socioeconomic impacts) on the domestic uranium mining, conversion, and enrichment industries (i.e., domestic uranium industry) from direct sales or transfers of uranium under the Proposed Action are expected to be small. In any event, DOE has prepared a mitigation action plan (MAP) to mitigate any potentially significant impacts on the domestic uranium industry from DOE decisions to disposition the excess NU, DU, and LEU inventory at DOE's Paducah and Portsmouth sites as analyzed in this EA.

• Cumulative impacts under the Enrichment Alternative would essentially be the same as those previously evaluated for the sites involved because DOE's uranium inventory would not increase the sites' enrichment capacity or throughput. Under the Direct Sale Alternative, DOE assumes that actions by the purchasers would be essentially the same as DOE under the Enrichment Alternative. For that reason, DOE finds that the cumulative transportation, enrichment, and storage impacts of the Direct Sale Alternative would be essentially identical to those of the Enrichment Alternative. The cumulative impacts that would occur under the No Action Alternative assessed in this EA are the same as the cumulative impacts identified for the two new conversion facilities at Paducah and Portsmouth.

[FR Doc. E9-15534 Filed 6-30-09; 8:45 am]

BILLING CODE 6450-01-P